ENVIRONMENTAL PROTECTION AGENCY

[EPA-HQ-OPP-2008-0075; FRL-8398-3]

Pirimicarb, Iprodione, Amides, Boscalid, Pyraclostrobin, Mefenoxam, Propyzamide (Pronamide), Pirimiphos-methyl, Thiobencarb, 1,2-benzisothiazolin-3-one, Fludioxonil, Esfenvalerate; Withdrawal of Tolerance Petitions

AGENCY: Environmental Protection Agency (EPA).

ACTION: Notice.

SUMMARY: Notice is being provided that the following petitions (PP# 0E6102, 1E6427, 2E6388, 2E6509, 4E6868, 5E7013, 5E7014, 5F7018, 6E7047, 6E7048, 6E7056, 6E7164, 6E7165, 7E7213, 7E7309, 7E7238, 7F7295 and 9E5075) to establish pesticide tolerances under the Federal Food, Drug, and Cosmetic Act (FFDCA), 21 U.S.C. 346a, have been withdrawn by the petitioners.

FOR FURTHER INFORMATION CONTACT: Laura Nollen, Registration Division (7505P), Environmental Protection Agency, 1200 Pennsylvania Ave., NW., Washington, DC 20460-0001; telephone number: (703) 305-7390; fax number: (703) 305-0599; e-mail address: nollen.laura@epa.gov.

SUPPLEMENTARY INFORMATION:

I. General Information

A. Does this Notice Apply to Me?

Although EPA regulations permit tolerance petitions to be withdrawn by the petitioner, notice is being provided to the public in general. Since various individuals or entities may be interested, the Agency has not attempted to describe all the specific entities that may be interested in this action. If you have any questions regarding this action, please consult the person listed under FOR FURTHER INFORMATION CONTACT.

B. How Can I Access Electronic Copies of this Document?

1. Docket. EPA has established a docket for this notice under docket identification (ID) number EPA-HQ-OPP-2008-0075. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

Under section 408(d) of the FFDCA, 21 U.S.C. 346a , EPA is authorized to establish tolerances for pesticide residues in or on food based on a petition from any person. Ordinarily, EPA resolves these petitions either by granting or denying them (21 U.S.C. 346a(d)(4)). EPA's regulations, however, allow petitions to be withdrawn by the petitioner without prejudice to refiling the petition at a later date (40 CFR 180.8). EPA has received notifications from various petitioners withdrawing, partially or completely, the following tolerances: PP 0E6102, 1E6427, 2E6388, 2E6509, 4E6868, 5E7013, 5E7014, 5F7018, 6E7047, 6E7048, 6E7056, 6E7164, 6E7165, 7E7213, 7E7309, 7E7238, 7F7295 and 9E5075. By this action, EPA is providing the general public with notice that the above-cited petitions have been withdrawn by the petitioners. The petitioners may refile these petitions in the future without prejudice. The petitions and the withdrawal notifications are described below.

A. PP 0E61012; PP 2E6388; PP 2E6509 (pirimicarb)

EPA issued a notice in the Federal Register of July 12, 2006 (71 FR 39315) (FRL-8075-1), which announced the submission of pesticide petitions (PP 2E6388; PP 2E6509; and PP 0E6102) (EPA-HQ-OPP-2006-0512) by the Interregional Research Project No. 4 (IR-4), 500 College Rd. East, Suite 201W, Princeton, NJ 08540. These petitions requested that EPA amend 40 CFR part 180 by establishing tolerances for residues of the insecticide 2-(dimethylamino)-5,6-dimethyl-4-pyrimidinyl dimethylcarbamate (9Cl) and its two carbamate metabolites: desmethyl pirimicarb and desmethylformamido pirimicarb, expressed as desmethyl pirimicarb in or on the following food commodities: PP 2E6388 proposed to establish a tolerance for asparagus at 0.01 parts per million (ppm). PP 2E6509 proposed to establish a tolerance for leafy petioles subgroup at 1.0 ppm. PP 0E6102 proposed to establish a tolerance for hops at 4.0 ppm. On May 30, 2008, IR-4 notified EPA that it was withdrawing these three petitions.

B. PP 1E6427 (iprodione)

EPA issued a notice in the Federal Register of August 2, 2006 (71 FR 43760) (FRL-8082-8), which announced the submission of a pesticide petition (PP 1E6427) (EPA-HQ-OPP-2006-0637) by IR-4. This petition requested that EPA amend 40 CFR 180.399 by establishing tolerances for residues of the fungicide iprodione [3-(3,5-dichlorophenyl)-N-(1-methylethyl)-2,4-dioxo-1-imidazolidinecarboxamide, its isomer 3-(1-methylethyl)-N-(3,5-dichlorophenyl)-2,4-dioxo-1-imidazolidinecarboxamide, and its metabolite 3-(3,5-dichlorophenyl)-2,4-dioxo-1-imidazolidinecarboxamide in or on the food commodity pistachio at 0.20 ppm. On July 9, 2008, IR-4 notified EPA that it was withdrawing this petition.

C. PP 4E6868 (amides)

EPA issued a notice in the Federal Register of December 9, 2004 (69 FR 71405) (FRL-7687-8), which announced the submission of a pesticide petition (PP 4E6868) (EPA-HQ-OPP-2004-0386) by Cognis Corporation, 4900 Este Avenue, Cincinnati, OH 45234. This petition proposed that EPA amend 40 CFR 180.960 by establishing an exemption from the requirement of a tolerance for residues of amides, from acetic acid, C5-9 carboxylic acids and diethylenetriamine-ethyleneimine polymer (CAS Reg. No. 192230-19-6) in or on all raw agricultural commodities when used as an inert ingredient in the pesticide formulations. On March 22, 2005, Cognis Corporation notified EPA that it was withdrawing this petition.

D. PP 5E7013 (boscalid)

EPA issued a notice in the Federal Register of June 14, 2006 (71 FR 34342) (FRL-8070-8), which announced the submission of a pesticide petition (PP 5E7013) (EPA-HQ-OPP-2005-0145) by IR-4. This petition requested that EPA amend 40 CFR 180.589 by establishing tolerances for residues of the fungicide boscalid; 3-pyridinecarboxamide, 2-chloro-N-(4'-chloro(1,1'-biphenyl)-2-yl) in or on the food commoditiy Belgian endive at 12.0 ppm. IR-4 additionally proposed to increase the established tolerances for boscalid in or on the raw agricultural commodities: Fruit, pome, crop group 11, to include postharvest use at 8.0 ppm; and fruit, stone, crop group 12, to include postharvest use, at 9.0 ppm. On January 3, 2007, IR-4 notified EPA that it was withdrawing the post-harvest uses of boscalid on Fruit, pome, crop group 11 and Fruit, Stone, crop group 12 from this petition. On March 27, 2008, IR-4 notified EPA that it was withdrawing the endive, Belgian tolerance from this petition; thereby withdrawing the entire petition.

E. PP 5E7014 (pyraclostrobin)

EPA issued a notice in the Federal Register of July 5, 2006 (71 FR 38150) (FRL-8074-2), which announced the submission of a pesticide petition (PP 5E7014) (EPA-HQ-OPP-2006-0522) by IR-4. This petition requested that EPA amend 40 CFR 180.582 by establishing tolerances for residues of the fungicide, pyraclostrobin, carbamic acid, [2-[[[1-(4-chlorophenyl)-1H-pyrazol-3-yl]oxy]methyl]phenyl]methoxy-, methyl ester and its metabolite methyl-N-[[[1-(4-chlorophenyl) pyrazol-3yl]oxy]otolyl]carbamate (BF 500-3); expressed as parent compound in or on food commodities: Endive, Belgian, at 11 ppm; fruit, pome, group 11, at 6.5 ppm; and fruit, stone, group 12 at 11 ppm. On January 3, 2007, IR-4 notified EPA that it was withdrawing the postharvest uses of pyraclostrobin on fruit, pome, crop group 11 and fruit, ftone, crop group 12 from this petition. On March 27, 2008, IR-4 notified EPA that it was withdrawing the endive, Belgian tolerance from this petition; thereby withdrawing the entire petition.

F. PP 5F7018 (mefenoxam)

EPA issued a notice in the Federal Register of June 21, 2007 (71 FR 35671) (FRL-8063-8), which announced the submission of a pesticide petition (PP 5F7018) (EPA-HQ-OPP-2006-0096) by Syngenta Crop Protection, P.O. Box 18300, Greensboro, NC 27409. This petition requested that EPA amend 40 CFR 180.546 by establishing a regional tolerance (East of the Mississippi River) for residues of the fungicide mefenoxam in or on food commodities bean, succulent shelled at 0.03 ppm; and a national tolerance in or on food commodities turnip, greens at 5.0 ppm. On December 3, 2007, Syngenta Crop Protection notified EPA that it was withdrawing the petition.

G. PP 6E7047; PP 6E7048 (propyzamide; pronamide)

EPA issued a notice in the Federal Register of May 9, 2007 (72 FR 26375) (FRL-8128-1), which announced the submission of pesticide petitions (PP 6E7074 and PP 6E7075) (EPA-HQ-OPP-2007-0189) by IR-4. These petitions requested that EPA amend 40 CFR 180.317 by establishing tolerances for residues of the herbicide propyzamide (pronamide) and its metabolite containing the 3,5-dichlorobenzoyl moiety and calculated as 3,5-dichloro-N-(1,1-dimethyl-2-propynyl) benzamide in or on food commodities: Chicory roots at 0.2 ppm; chicory tops at 2.0 ppm; endive, Belgium at 2.0 ppm; and dandelion, leaves at 2.0 ppm (PP 6E7047); and Berry group 13 at 0.05 ppm (PP 6E7048). On March 10, 2008, IR-4 notified EPA that it was withdrawing the petitions.

H. PP 6E7056 (pirimiphos-methyl)

EPA issued a notice in the Federal Register of May 10, 2006 (71 FR 27245) (FRL-8067-7), which announced the submission of a pesticide petition (PP 6E7056) (EPA-HQ-OPP-2006-0334) by IR-4. This petition requested that EPA amend 40 CFR 180.409 by establishing tolerances for residues of the insecticide pirimiphos-methyl in or on sunflower seeds at 10 ppm. On January 30, 2008, IR-4 notified EPA that it was withdrawing the petition.

I. PP 6E7164 (boscalid)

EPA issued a notice in the Federal Register of April 4, 2007 (72 FR 16352) (FRL-8119-2), which announced the submission of a pesticide petition (PP 6E7164) (EPA-HQ-OPP-2007-0115) by IR-4. This petition requested that EPA amend 40 CFR 180.589 by establishing tolerances for residues of the fungicide boscalid, (BAS 510F), 3-pyridinecarboxamide, 2-chloro-N-(4'-chloro(1,1'-biphenyl)-2-yl) in or on food commodities avocado at 1.5 ppm; sapote, black at 1.5 ppm; canistel at 1.5 ppm; sopote, mamey at 1.5 ppm; mango at 1.5 ppm; papaya at 1.5 ppm; sapodilla at 1.5 ppm; star apple at 1.5 ppm; and herbs, fresh, subgroup 19A at 60.0 ppm. On February 6, 2008, IR-4 notified EPA that it was withdrawing the Herbs, fresh, subgroup 19A tolerance from this petition.

J. PP 6E7165 (pyraclostrobin)

EPA issued a notice in the Federal Register of April 4, 2007 (72 FR 16352) (FRL-8119-2), which announced the submission of a pesticide petition (PP 6E7165) (EPA-HQ-OPP-2007-0117) by IR-4. This petition requested that EPA amend 40 CFR 180.582 by establishing tolerances for residues of the fungicide pyraclostrobin, (carbamic acid, [2-[[[1-(4-chlorophenyl)-1H-pyrazol-3-yl]oxy]methyl] phenyl]methoxy-,methyl ester) and its metabolite (methyl-N-[[[1-(4-chlorophenyl) pyrazol-3-yl]oxy]o-tolyl] carbamate) (BF 500-3) expressed as parent compound in or on the food commodities: Herbs, fresh, subgroup 19A at 30.0 ppm; avocado at 0.7 ppm; mango at 0.7 ppm; papaya at 0.7 ppm; sapote, black at 0.7 ppm; sapote, mamey at 0.7 ppm; canistel at 0.7 ppm; sapodilla at 0.7 ppm; and star apple at 0.7 ppm. On February 6, 2008, IR-4 notified EPA that it was withdrawing the Herbs, fresh, subgroup 19A tolerance from this petition.

K. PP 7E7213 (thiobencarb)

EPA issued a notice in the Federal Register of August 22,2007 (72 FR 47010) (FRL- 8142-5), which announced the submission of pesticide petition (PP 7E7213) (EPA-HQ-OPP-2007-0472) by IR-4. This petition requested that EPA amend 40 CFR 180.401 by establishing tolerances for residues of the of the herbicide thiobencarb, (S-[(4-chlorophenyl)methyl]diethyl-carbamothioate) and its chlorobenzyl and chlorophenyl moiety-containing metabolites in or on food commodity rice, wild at 0.2 ppm. On December 19, 2008, IR-4 notified EPA that it was withdrawing this petition.

L. PP 7E7309 (1,2-benzisothiazolin-3-one)

EPA issued a notice in the Federal Register of February 6, 2008 (73 FR 6964) (FRL-8350-9), which announced the submission of a pesticide petition (PP 7E7309) (EPA-HQ-OPP-2008-0044) by Syngenta Crop Protection, P.O. Box 18300, Greensboro, NC 27409. This petition requested that EPA amend 40 CFR part 180 by establishing an exemption from the requirement of a tolerance under 40 CFR 180.910 for residues of 1,2-benzisothiazolin-3-one (BIT) as an inert ingredient in post-harvest applications at a maximum of 0.1% in an end-use product formulation. On October 31, 2008, Syngenta Crop Protection, notified EPA that it was withdrawing this petition.

M. PP 7E7238 (propyzamide; pronamide)

EPA issued a notice in the Federal Register of October 24, 2007 (72 FR 60369) (FRL-8150-8), which announced the submission of a pesticide petition (PP 7E7238) (EPA-HQ-OPP-2007-0189) by IR-4. This petition requested that EPA amend 40 CFR 180.317 by establishing tolerances for residues of the herbicide propyzamide (pronamide) and its metabolite containing the 3,5-dichlorobenzoyl moiety calculated as 3,5-dichloro-N-(1,1-dimethyl-2-propynyl) benzamide in or on food commodities bearberry at 1.0 ppm; bilberry at 1.0 ppm; blueberry, lowbush at 1.0 ppm; cloudberry at 1.0 ppm; cranberry at 1.0 ppm; lingonberry at 1.0 ppm; muntries at 1.0 ppm; and partridgeberry at 1.0 ppm. On September 26, 2008, IR-4 notified EPA that it was withdrawing this petition.

N. PP 7F7295 (fludioxonil)

EPA issued a notice in the Federal Register of July 9, 2008 (73 FR 39289) (FRL-8371-2), which announced the submission of a pesticide petition (PP 7F7295) (EPA-HQ-OPP-2008-0490) by Syngenta Crop Protection, Inc.. This petition requested that EPA amend 40 CFR 180.516 by establishing a tolerance for residues of the fungicide fludioxonil, 4-(2, 2-difluoro-1,3-benzodioxol-4-yl)-1Hpyrrole-3-carbonitrile, in or on food commodity raisins at 1.9 ppm. On December 3, 2008, Syngenta Crop Protection, Inc. notified EPA that it was withdrawing the petition.

O. PP 9E5075 (esfenvalerate)

EPA issued a notice in the Federal Register of September 13, 2006 (71 FR 54060) (FRL-8091-1), which announced the submission of a pesticide petition (PP 9E5075) (EPA-HQ-OPP-2006-0730) by IR-4. This petition requested that EPA amend 40 CFR 180.533 by establishing tolerances for residues of the insecticide esfenvalerate, ((S)-cyano-(3-phenoxyphenyl)methyl(S)-4-chloroalpha-(1-methylethyl) benzeneacetate) in or on oilseed crops; rapeseed (canola), seed; indian rapeseed; Indian mustard, seed; field mustard, seed; black mustard, seed; flax, seed; sunflower, seed; safflower, seed; borage, seed; and crambe at 0.3 ppm. On November 13, 2008, IR-4 notified EPA that it was withdrawing the petition.

III. Regulatory Assessment Requirements

This action provides notice that various tolerance petitioners have withdrawn, partially or completely, their petitions to establish tolerances. Under 40 CFR 180.8, petitioners are authorized to take such action. Because EPA is merely providing notice of actions of outside parties, the regulatory assessment requirements imposed on rulemaking do not apply to this action.

List of Subjects

Environmental protection, Pesticides and pests.

Dated: March 3, 2009.
Lois Rossi,
Director, Registration Division, Office of Pesticide Programs.

[FR Doc. E9-6002 Filed 3-24-09; 8:45 am]

BILLING CODE 6560-50-S